NUCLEAR REGULATORY COMMISSION

[Docket No. 50-29]

Yankee Atomic Electric Company; Notice of Withdrawal of Application for Amendment to the Possession Only License

The U.S. Nuclear Regulatory Commission (the Commission) has granted the request of Yankee Atomic Electric Company (the licensee) to withdraw its March 17, 1999, application for proposed amendment to the Possession Only License No. DPR-3 for the Yankee Nuclear Power Station, located in Rowe, Massachusetts.

The proposed amendment would have revised the Yankee Nuclear Power Station's Defueled Technical Specifications by transferring the administrative requirements to the Yankee Decommissioning Quality Assurance Program.

The Commission had previously issued a Notice of Consideration of Issuance of Amendment published in the Federal Register on April 7, 1999 (64 FR 17032). However, by letter dated April 23, 1999, the licensee withdrew the proposed change.

For further details with respect to this action, see the application for amendment dated March 17, 1999, and the licensee's letter dated April 23, 1999, which withdrew the application for license amendment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 12th day of January 2001.
For the Nuclear Regulatory Commission.
Phillip M. Ray,
Project Manager, Project Directorate IV & Decommissioning Division of Licensing Project Management Office of Nuclear Reactor Regulation.

[FR Doc. 01-1778 Filed 1-19-01; 8:45 am]

BILLING CODE 7590-01-P